DEPARTMENT OF ENERGY

Federal Energy Regulatory Commission

[Docket No. CP01-102-000]

Transcontinental Gas Pipe Line Corporation Southern Natural Gas Company; Notice of Application

March 16, 2001.

Take notice that on March 9, 2001, Transcontinental Gas Pipe Line Corporation (Transco), P.O. Box 1396, Houston, Texas, 77251, and Southern Natural Gas Company (Southern), 1900 Fifth Avenue North, Birmingham, Alabama, 35203, (collectively referred to as Applicants) filed in Docket No. CP01-102-000 an application pursuant to section 7(b) of the Natural Gas Act, as amended, and Subpart F of the Regulations of the Federal Energy Regulatory Commission's (Commission) thereunder, for permission and approval to abandon the transportation and exchange of natural gas provided under Southern's Rate Schedule X-66 and Transco's Rate Schedule X-250, all as more fully set forth in the application which is on file with the Commission and open to public inspection. This filing may be viewed at http://www.ferc.fed.us/online/rims.htm (call 202-208-2222 for assistance).

Applicants state that they have not transported or exchanged gas pursuant to these Rate Schedules since 1991. Applicants assert that they do not propose to abandon any facility pursuant to the authorization sought herein and that no service to any of their customers will be affected by the abandonment authorization requested herein. Further, Applicants assert there is no outstanding imbalance due any party.

Any person desiring to be heard or to make any protest with reference to said application should on or before April 6, 2001, file with the Federal Energy Regulatory Commission, Washington, DC 20426, a petition to intervene or a protest in accordance with the requirements of the Commission's Rules of Practice and Procedure (18 CFR 385.214 or 385.211) and the regulations under the Natural Gas Act (18 CFR 157.10). All protests filed with the Commission will be considered by it in determining the appropriate action to be taken but will not serve to make the protestants parties to the proceeding.

Any person wishing to become a party to the proceeding or to participate as a party in any hearing therein must file a petition to intervene in accordance with the Commission's Rules. Any questions regarding this application for Transco should be directed to Mr. Randall R. Conklin, General Counsel, P.O. Box 1396, Houston, Texas 7725-1396 at (713) 215-2000, and the contact person regarding this application for Southern is Ms. Sandra W. Murvin, Senior Counsel, P.O. Box 2563, Birmingham, Alabama, 35202-2563 at (205) 325-3859.

Comments, protests, and interventions may be filed electronically via the Internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by sections 7 and 15 of the Natural Gas Act and the Commission's Rules of Practice and Procedure, a hearing will be held without further notice before the Commission on this application if no petition to intervene is filed within the time required herein, and if the Commission on its own review of the matter finds that the abandonment is required by the public convenience and necessity. If a petition for leave to intervene is timely filed, or if the Commission on its motion believes that a formal hearing is required, further notice of such hearing will be duly given.

Under the procedure herein provided for, unless otherwise advised, it will be unnecessary for Applicants to appear or be represented at the hearing.

Linwood A. Watson, Jr.,
Acting Secretary.

[FR Doc. 01-7120 Filed 3-21-01; 8:45 am]

BILLING CODE 6717-01-M